DEPARTMENT OF ENERGY

Federal Energy Regulatory Commission

[Docket No. EG05-32-000, et al.]

PSEG Power Connecticut LLC, et al.; Electric Rate and Corporate Filings

January 26, 2005.

The following filings have been made with the Commission. The filings are listed in ascending order within each docket classification.

1. PSEG Power Connecticut LLC

[Docket No. EG05-32-000]

Take notice that on January 11, 2005, PSEG Power Connecticut LLC (PSEG Power Connecticut) filed with the Commission an application for redetermination of exempt wholesale generator status pursuant to part 365 of the Commission regulations.

Comment Date: 5 p.m. Eastern Time on February 11, 2005.

2. Trimont Wind I LLC

[Docket No. EG05-33-000]

Take notice that on January 21, 2005, Trimont Wind I LLC (Trimont) filed with the Commission an application for determination of exempt wholesale generator status pursuant to part 365 of the Commission's regulations.

Comment Date: 5 p.m. Eastern Time on February 11, 2005.

3. Mendota Hills, LLC

[Docket No. EG05-34-000]

Take notice that on January 21, 2005, Mendota Hills, LLC, filed with the Commission an application for determination of exempt wholesale generator status pursuant to part 365 of the Commission's regulations.

Comment Date: 5 p.m. Eastern Time on February 11, 2005.

4. SeaWest WindPower, Inc.

[Docket No. EG05-35-000]

Take notice that on January 24, 2005, SeaWest WindPower, Inc. (SeaWest WindPower) filed with the Commission an application for determination of exempt wholesale generator (EWG) status pursuant to part 365 of the Commission's regulations.

SeaWest WindPower states that a copy of the Application has been served on the U.S. Securities and Exchange Commission and the California Public Utilities Commission, the Indiana Utility Regulatory Commission, the Oregon Public Utility Commission, and the Wyoming Public Service Commission.

Comment Date: 5 p.m. Eastern Time on February 7, 2005.

5. New York Independent System Operator, Inc.

[Docket No. EL02-125-003]

Take notice that on January 21, 2005 the New York Independent System Operator, Inc. (NYISO) filed modifications to its Open Access Transmission Tariff (OATT) to implement revisions to Attachment S. The NYISO has requested an effective date of October 25, 2004.

The NYISO states that it has served a copy of this filing upon all parties that have executed Service Agreements under the NYISO's Open Access Transmission Tariff or Services Tariff, the New York State Public Service Commission, upon the electric utility regulatory agencies in New Jersey and Pennsylvania, and upon the parties on the Service List for this docket.

Comment Date: 5 p.m. Eastern Time on February 11, 2005.

6. Entergy Power Ventures, L.P.; Warren Power, LLC; Northern Iowa Windpower, LLC; Entergy-Koch Trading, LP; Llano Estacado Wind, LP; EWO Marketing, LP

[Docket Nos. ER02-862-003, ER01-1804-002, ER02-257-003, ER01-2781-007, ER02-73-005, ER01-666-003]

Take notice that on January 6, 2005, Entergy Power Ventures, L.P., Warren Power, LLC, Northern Iowa Windpower, LLC, Entergy-Koch Trading, LP, Llano Estacado Wind, LP and EWO Marketing, LP filed a notification of non-material change in status with respect to their authority to engage in market-based power sales.

Comment Date: 5 p.m. Eastern Time on February 7, 2005.

7. ISO New England Inc.; Bangor Hydro-Electric Company; Central Maine Power Company; NSTAR Electric & Gas Corporation, on behalf of its affiliates Boston Edison Company, Commonwealth Electric Company, Cambridge Electric Light Company, and Canal Electric Company; New England Power Company; Northeast Utilities Service Company, on behalf of its operating company affiliates The Connecticut Light and Power Company, Western Massachusetts Electric Company, Public Service Company of New Hampshire and Holyoke Water Power Company; The United Illuminating Company; Fitchburg Gas and Electric Light Company; Unitil Energy Systems, Inc.; Vermont Electric Power Company; Central Vermont Public Service Corporation; Green Mountain Power Corporation; Vermont Electric Cooperative; Florida Power & Light Company—New England Division

[Docket No. ER05-374-001]

Take notice that on January 21, 2005, Boston Edison Company submitted an amendment to its December 22, 2004 filing in Docket No. ER05-374-000 of Schedule 21-BECO of section II of the transmission, markets and services tariff of ISO New England Inc., to reflect revisions to Boston Edison's transmission formula rate that was approved by the Commission in Docket No. ER05-69-000. Boston Edison Company, 109 FERC ¶ 61,300 (2004).

Comment Date: 5 p.m. Eastern Time on February 4, 2005.

8. Mendota Hills LLC

[Docket No. ER05-463-000]

Take notice that on January 19, 2005, Mendota Hills LLC (Mendota) filed an application requesting market-based rate authority and the grant of other authorizations and waivers of certain Commission regulations.

Comment Date: 5 p.m. Eastern Time on February 9, 2005.

9. Kentucky Utilities Company

[Docket No. ER05-465-000]

Take notice that on January 19, 2005, Kentucky Utilities (KU) ( a subsidiary of LG&E Energy LLC) tendered for filing a fully executed amendment to the contract between KU and the City of Madisonville, Kentucky dealing with the pricing of power received from the Southeastern Power Administration (SEPA). KU states that the numbered SEPA contract between KU and the City of Madisonville is designated rate schedule FERC No. 306.

Comment Date: 5 p.m. Eastern Time on February 9, 2005.

10. Kentucky Utilities Company

[Docket No. ER05-466-000]

Take notice that on January 19, 2005, Kentucky Utilities (KU) (a subsidiary of LG&E Energy LLC) tendered for filing a fully executed amendment to the contract between KU and the City of Providence, Kentucky dealing with the pricing of power received from the Southeastern Power Administration (SEPA). KU states that the numbered SEPA contract between KU and the City of Providence is designated rate schedule FERC No. 305.

Comment Date: 5 p.m. Eastern Time on February 9, 2005.

11. Kentucky Utilities Company

[Docket No. ER05-467-000]

Take notice that on January 19, 2005, Kentucky Utilities (KU) (a subsidiary of LG&E Energy LLC) tendered for filing a fully executed amendment to the contract between KU and the City of Barbourville, Kentucky dealing with the pricing of power received from the Southeastern Power Administration (SEPA) KU states that the numbered SEPA contract between KU and the City of Barbourville is designated rate schedule FERC No. 304.

Comment Date: 5 p.m. Eastern Time on February 9, 2005.

12. Kentucky Utilities Company

[Docket No. ER05-468-000]

Take notice that on January 19, 2005, Kentucky Utilities (KU) (a subsidiary of LG&E Energy LLC) tendered for filing a fully executed amendment to the contract between KU and the City of Paris, Kentucky dealing with the pricing of power received from the Southeastern Power Administration (SEPA). KU states that the numbered SEPA contract between KU and the City of Paris is designated rate schedule FERC No. 301.

Comment Date: 5 p.m. Eastern Time on February 9, 2005.

13. Kentucky Utilities Company

[Docket No. ER05-469-000]

Take notice that on January 19, 2005, Kentucky Utilities (KU) (a subsidiary of LG&E Energy LLC) tendered for filing a fully executed amendment to the contract between KU and the City of Bardstown, Kentucky dealing with the pricing of power received from the Southeastern Power Administration (SEPA). KU states that the numbered SEPA contract between KU and the City of Bardstown is designated rate schedule FERC No. 302.

Comment Date: 5 p.m. Eastern Time on February 9, 2005.

14. Kentucky Utilities Company

[Docket No. ER05-470-000]

Take notice that on January 19, 2005, Kentucky Utilities (KU) (a subsidiary of LG&E Energy LLC) tendered for filing a fully executed amendment to the contract between KU and the City of Nicholasville, Kentucky dealing with the pricing of power received from the Southeastern Power Administration (SEPA). KU states that the numbered SEPA contract between KU and the City of Nicholasville is designated rate schedule FERC No. 303.

Comment Date: 5 p.m. Eastern Time on February 9, 2005.

15. Aquila Merchant Services, Inc.

[Docket No. ER05-472-000]

Take notice that on January 19, 2005, Aquila Merchant Services, Inc. (AMS) filed a capacity and electric power sales transaction between AMS and its affiliate, Aquila, Inc (d/b/a Aquila Networks—MPS). AMS requests an effective date of June 1, 2005.

Comment Date: 5 p.m. Eastern Time on February 9, 2005.

16. Cleco Power LLC

[Docket No. ER05-473-000]

Take notice that on January 19, 2005, Cleco Power LLC (Cleco) filed certain changes to its open access transmission tariff in compliance with the requirements of Order No. 2003-B. Cleco requests an effective date of January 20, 2005. Cleco designates this filing as Second Revised Volume No. 1 of its FERC Electric Tariff, Original Sheet Nos. 114A, 116A, 215A, 222A, and 241A; First Revised Sheet Nos. 1, 7, 99, 106, 107, 113, 114, 116, 123, 128, 129, 133, 135, 136, 146, 148, 149, 160A, 168A, 174B, 187, 191, 194, 195, 203, 204, 215, 222, 241, 242, 252, 255, 257, 261, and 269; and Second Revised Sheet No. 160.

Comment Date: 5 p.m. Eastern Time on February 9, 2005.

17. Kentucky Utilities Company

[Docket No. ER05-474-000]

Take notice that on January 19, 2005, Kentucky Utilities (KU) (a subsidiary of LG&E Energy LLC) tendered for filing a fully executed amendment to the contract between KU and the City of Falmouth, Kentucky dealing with the pricing of power received from the Southeastern Power Administration (SEPA). KU states that the numbered SEPA contract between KU and the City of Falmouth is designated rate schedule FERC No. 310.

Comment Date: 5 p.m. Eastern Time on February 9, 2005.

18. Kentucky Utilities Company

[Docket No. ER05-475-000]

Take notice that on January 19, 2005, Kentucky Utilities (KU) (a subsidiary of LG&E Energy LLC) tendered for filing a fully executed amendment to the contract between KU and the City of Frankfort, Kentucky dealing with the pricing of power received from the Southeastern Power Administration (SEPA). KU states that the numbered SEPA contract between KU and the City of Frankfort is designated rate schedule FERC No. 311.

Comment Date: 5 p.m. Eastern Time on February 9, 2005.

19. Kentucky Utilities Company

[Docket No. ER05-476-000]

Take notice that on January 19, 2005, Kentucky Utilities (KU) (a subsidiary of LG&E Energy LLC) tendered for filing a fully executed amendment to the contract between KU and the City of Corbin, Kentucky dealing with the pricing of power received from the Southeastern Power Administration (SEPA). KU states that the numbered SEPA contract between KU and the City of Corbin is designated rate schedule FERC No. 309.

Comment Date: 5 p.m. Eastern Time on February 9, 2005.

20. Kentucky Utilities Company

[Docket No. ER05-477-000]

Take notice that on January 19, 2005, Kentucky Utilities (KU) (a subsidiary of LG&E Energy LLC) tendered for filing a fully executed amendment to the contract between KU and the City of Benham, Kentucky dealing with the pricing of power received from the Southeastern Power Administration (SEPA). KU states that the numbered SEPA contract between KU and the City of Benham is designated rate schedule FERC No. 308.

Comment Date: 5 p.m. Eastern Time on February 9, 2005.

21. Kentucky Utilities Company

[Docket No. ER05-478-000]

Take notice that on January 19, 2005, Kentucky Utilities (KU) (a subsidiary of LG&E Energy LLC) tendered for filing a fully executed amendment to the contract between KU and the City of Bardwell, Kentucky dealing with the pricing of power received from the Southeastern Power Administration (SEPA). KU states that the numbered SEPA contract between KU and the City of Bardwell is designated rate schedule FERC No. 307.

Comment Date: 5 p.m. Eastern Time on February 9, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-395 Filed 2-1-05; 8:45 am]

BILLING CODE 6717-01-P